ENVIRONMENTAL PROTECTION AGENCY

[PB-402404-MI; FRL-6494-6]

Lead-Based Paint Activities in Target Housing and Child-Occupied Facilities; State of Michigan Authorization Application

AGENCY: Environmental Protection Agency (EPA).

ACTION: Notice.

SUMMARY: On November 1, 1999, the State of Michigan submitted an application for EPA approval to administer and enforce training and certification requirements, training program accreditation requirements, and work practice standards for lead-based paint activities in target housing and child-occupied facilities under section 402 of the Toxic Substances Control Act (TSCA). This notice announces the receipt of Michigan's application, provides a 45-day public comment period, and provides an opportunity to request a public hearing on the application. The State of Michigan has provided a certification that its program meets the requirements for approval of a State program under section 404 of TSCA. Therefore, pursuant to section 404, the program is deemed authorized as of the date of submission. If EPA finds that the program does not meet the requirements for approval of a State program, EPA will disapprove the program, at which time a notice will be issued in the Federal Register and the Federal program will take effect in the State of Michigan.

DATES: Comments, identified by docket control number PB-402404-MI, must be received on or before June 5, 2000. In addition, a public hearing request may be submitted on or before June 5, 2000.

ADDRESSES: Comments and the public hearing request may be submitted by mail, electronically, or in person. Please follow the detailed instructions for each method as provided in Unit I. of the SUPPLEMENTARY INFORMATION. To ensure proper receipt by EPA, it is imperative that you identify docket control number PB-402404-MI in the subject line on the first page of your response.

FOR FURTHER INFORMATION CONTACT: David Turpin, Regional Lead Coordinator, Environmental Protection Agency, Region V, Pesticides and Toxics Branch, 77 West Jackson Boulevard (DT-8J), Chicago, IL 60604; telephone: (312) 886-7836; e-mail address: turpin.david@epa.gov.

SUPPLEMENTARY INFORMATION:

I. General Information

A. Does this Action Apply to Me?

This action is directed to the public in general. This action may, however, be of interest to firms and individuals engaged in lead-based paint activities in the State of Michigan. Since other entities may also be interested, the Agency has not attempted to describe all the specific entities that may be affected by this action. If you have any questions regarding the applicability of this action to a particular entity, consult the person listed under FOR FURTHER INFORMATION CONTACT.

B. How Can I Get Additional Information, Including Copies of this Document or Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for this action under docket control number PB-402404-MI. The official record consists of the documents specifically referenced in this action, this notice, the State of Michigan's authorization application, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection from 8 a.m. to 4:30 p.m., Monday through Friday, excluding legal holidays. The docket is located at the EPA Region V Office, Environmental Protection Agency, Pesticides and Toxics Branch, 8th Floor, 77 West Jackson Boulevard, Chicago, IL 60604.

C. How and to Whom Do I Submit Comments and Hearing Requests?

You may submit comments and hearing requests through the mail, in person, or electronically. To ensure proper receipt by EPA, it is imperative that you identify docket control number PB-402404-MI in the subject line on the first page of your response.

1. By mail. Submit your comments and hearing requests to: Environmental Protection Agency, Region V, Pesticides and Toxics Branch, 77 West Jackson Boulevard (DT-8J), Chicago, IL 60604.

2. In person or by courier. Deliver your comments and hearing requests to: Environmental Protection Agency, Pesticides and Toxics Branch, 8th Floor, 77 West Jackson Boulevard, Chicago, IL 60604. The regional office is open from 8 a.m. to 4:30 p.m., Monday through Friday, excluding legal holidays.

3. Electronically. You may submit your comments and hearing requests electronically by e-mail to: “turpin.david@epa.gov” or mail your computer disk to the address identified above. Do not submit any information electronically that you consider to be CBI. Electronic comments and hearing requests must be submitted as an ASCII file avoiding the use of special characters and any form of encryption. Comments and data and hearing requests will also be accepted on standard disks in WordPerfect 6.1/8.0 or ASCII file format. All comments and hearing requests in electronic form must be identified by docket control number PB-402404-MI. Electronic comments and hearing requests may also be filed online at many Federal Depository Libraries.

D. How Should I Handle CBI Information That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person identified under FOR FURTHER INFORMATION CONTACT.

II. Background

A. What Action is the Agency Taking?

The State of Michigan has provided a certification letter stating that its lead-based paint training and certification program meets the requirements for authorization of a State program under section 404 of TSCA and has requested approval of the State of Michigan's lead-based paint training and certification program. Therefore, pursuant to section 404 of TSCA, the program is deemed authorized as of the date of submission (i.e., November 1, 1999). If EPA subsequently finds that the program does not meet all the requirements for approval of a State program, EPA will work with the State to correct any deficiencies in order to approve the program. If the deficiencies are not corrected, a notice of disapproval will be issued in the Federal Register and a Federal program will be implemented in the State.

Pursuant to section 404(b) of TSCA (15 U.S.C. 2684(b)), EPA provides notice and an opportunity for a public hearing on a State or Tribal program application before approving the application. Therefore, by this notice EPA is soliciting public comment on whether the State of Michigan's application meets the requirements for EPA approval. This notice also provides an opportunity to request a public hearing on the application. If a hearing is requested and granted, EPA will issue a Federal Register notice announcing the date, time, and place of the hearing. EPA's final decision on the application will be published in the Federal Register.

B. What is the Agency's Authority for Taking this Action?

On October 28, 1992, the Housing and Community Development Act of 1992, Public Law 102-550, became law. Title X of that statute was the Residential Lead-Based Paint Hazard Reduction Act of 1992. That Act amended TSCA (15 U.S.C. 2601 et seq.) by adding Title IV (15 U.S.C. 2681-2692), entitled “Lead Exposure Reduction.”

Section 402 of TSCA authorizes and directs EPA to promulgate final regulations governing lead-based paint activities in target housing, public and commercial buildings, bridges, and other structures. Those regulations are to ensure that individuals engaged in such activities are properly trained, that training programs are accredited, and that individuals engaged in these activities are certified and follow documented work practice standards. Under section 404 of TSCA, a State may seek authorization from EPA to administer and enforce its own lead-based paint activities program.

On August 29, 1996 (61 FR 45777) (FRL-5389-9), EPA promulgated final TSCA section 402/404 regulations governing lead-based paint activities in target housing and child-occupied facilities (a subset of public buildings). Those regulations are codified at 40 CFR part 745, and allow both States and Indian Tribes to apply for program authorization. Pursuant to section 404(h) of TSCA, EPA is to establish the Federal program in any State or Tribal Nation without its own authorized program in place by August 31, 1998.

States and Tribes that choose to apply for program authorization must submit a complete application to the appropriate Regional EPA Office for review. Those applications will be reviewed by EPA within 180 days of receipt of the complete application. To receive EPA approval, a State or Tribe must demonstrate that its program is at least as protective of human health and the environment as the Federal program, and provides for adequate enforcement (section 404(b) of TSCA, 15 U.S.C. 2684(b)). EPA's regulations (40 CFR part 745, subpart Q) provide the detailed requirements a State or Tribal program must meet in order to obtain EPA approval.

A State may choose to certify that its lead-based paint activities program meets the requirements for EPA approval, by submitting a letter signed by the Governor or Attorney General stating that the program meets the requirements of section 404(b) of TSCA. Upon submission of such certification letter, the program is deemed authorized. This authorization becomes ineffective, however, if EPA disapproves the application or withdraws the program authorization.

III. State Program Description Summary

The following summary of the State of Michigan's proposed program has been provided by the applicant. Michigan Public Health Code, Act No. 368 of the Public Acts of 1978 assigns to the Michigan Department of Community Health (MDCH), among other responsibilities, the continuous and diligent endeavor to prevent disease, prolong life, and promote the public health through organized programs, including prevention and control of environmental health hazards; prevention and control of diseases; prevention and control of health problems of particularly vulnerable population groups. In carrying out its responsibility, the department shall:

1. Have general supervision of the interests of the health and life of the people of the state.

2. Implement and enforce laws for which responsibility is vested in the Department.

3. Make investigations and inquiries as to the causes, prevention and control of environmental health hazards, nuisances and sources of illness.

The Department may exercise authority and promulgate rules to properly safeguard the public health; to prevent the spread of diseases and the existence of sources of contamination; and to implement and carry out the powers of and duties vested by law in the Department. To assure compliance with laws enforced by the Department, the Department may inspect, investigate, or authorize inspections and investigations to be made.

The Lead Abatement Act, Public Acts 219 and 220 of 1998 enacted legislation to address lead-based paint hazards. The Michigan Department of Community Health, Community Public Health Administration's Lead Hazard Remediation Program (LHRP), is the recognized agency for the administration of the lead hazard control regulations. These regulations ensure that persons engaged in lead-based paint activities perform them in a safe manner to prevent exposure of building occupants to lead hazards. Individuals conducting lead-based paint inspections, risk assessments and abatements in target housing and child-occupied facilities are required to be properly trained and certified.

Michigan lead hazard remediation regulations also require the accreditation of training providers, establish a lead poisoning education and prevention program, establish work practice standards for lead-based paint activities, define rights and duties of regulated persons, and prescribe enforcement actions and noncompliance remedies.

All persons providing training in lead-based paint identification and abatement must be accredited. Accreditation of the training program is contingent upon the training program employing a training manager who meets the qualifications set forth in the promulgated rules. Training courses must include designated curricula for respective disciplines, and maintenance of records.

Lead professionals such as inspectors, risk assessors, supervisors and abatement workers must be certified. Individuals seeking certification or re-certification shall successfully complete an accredited training course in the appropriate discipline, pass a third party certification examination within 6 months of course completion, and meet the appropriate experience and education requirements for each discipline.

Work practice standards for conducting lead-based paint activities such as an inspection, lead-hazard screen, risk assessment or abatement have been established by statute and promulgated rules. These activities may only be performed by certified individuals in accordance with documented methodologies.

Authority for enforcement actions is established for the Michigan Department of Community Health under sections 5466(1), 5475(2) and 5476(2) of the Lead Abatement Act of 1998, being sections 333.5466, 333.5475, and 333.5476 of the Michigan Compiled Laws, and Rule 325.9925.

IV. Federal Overfiling

Section 404(b) of TSCA makes it unlawful for any person to violate, or fail or refuse to comply with, any requirement of an approved State or Tribal program. Therefore, EPA reserves the right to exercise its enforcement authority under TSCA against a violation of, or a failure or refusal to comply with, any requirement of an authorized State or Tribal program.

V. Submission to Congress and the Comptroller General

The Congressional Review Act, 5 U.S.C. 801 et seq., as added by the Small Business Regulatory Enforcement Fairness Act of 1996, generally provides that before certain actions may take effect, the agency promulgating the action must submit a report, which includes a copy of the action, to each House of the Congress and to the Comptroller General of the United States. EPA will submit a report containing this action and other required information to the U.S. Senate, the U.S. House of Representatives, and the Comptroller General of the United States prior to publication of this document in the Federal Register. This action is not a “major rule” as defined by 5 U.S.C. 804(2).

List of Subjects

Environmental protection, Hazardous substances, Lead, Reporting and recordkeeping requirements.

Dated: March 20, 2000.
Norman Niedergang,
Acting Regional Administrator, Region V.

[FR Doc. 00-9927 Filed 4-19-00; 8:45 am]

BILLING CODE 6560-50-F